DEPARTMENT OF THE INTERIOR

Fish and Wildlife Service

50 CFR Part 17

[Docket No. FWS-HQ-ES-2018-0097; FXES11130900000C2-189-FF09E32000]

RIN 1018-BD60

Endangered and Threatened Wildlife and Plants; Removing the Gray Wolf (Canis lupus) From the List of Endangered and Threatened Wildlife

AGENCY: Fish and Wildlife Service, Interior.

ACTION: Proposed rule; announcement of a public open house and public hearing.

SUMMARY: We, the U.S. Fish and Wildlife Service (Service), recently published a proposal to remove the gray wolf from the List of Endangered and Threatened Wildlife, and we announced the opening of a 60-day public comment period on the proposed action, ending May 14, 2019. We then extended the comment period by 60 days, ending July, 15, 2019, to allow all interested parties additional time to comment on the proposed rule. We now announce a public information open house and public hearing on our proposed rule. We also notify the public of the availability of the final peer review report containing the individual peer reviews of our proposal and information on the peer review process.

DATES: Public information open house and public hearing: We will hold a public open house followed by a public hearing on our proposed rule on June 25, 2019. The public open house will be held from 5:00 p.m. to 6:30 p.m., and the public hearing from 6:30 p.m. to 9:00 p.m.

Availability of documents: The peer review report is available beginning June 3, 2019.

ADDRESSES: Public open house and hearing: A public open house followed by a public hearing will be held at Franklin Arts Center Auditorium, 1001 Kingwood Street, Brainerd, Minnesota 56401. See Public Information Open House and Public Hearing, below, for more information.

Availability of documents: You may obtain copies of our proposed rule to remove the gray wolf from the List of Endangered and Threatened Wildlife and supporting documents, including the final peer review report and the peer review plan, on the internet at http://www.regulations.gov under Docket No. FWS-HQ-ES-2018-0097. The final peer review report is also available on our website at https://www.fws.gov/endangered/improving_esa/peer_review_process.html. Additional information on the nature of the peer review can be found in the peer review plan, which is also available at: https://www.fws.gov/endangered/esa-library/pdf/Gray-Wolf-Peer-Review-Plan.pdf.

FOR FURTHER INFORMATION CONTACT: Don Morgan, Chief, Branch of Delisting and Foreign Species, Ecological Services; U.S. Fish and Wildlife Service, Headquarters Office, MS: ES, 5275 Leesburg Pike, Falls Church, VA 22041-3803. Persons who use a telecommunications device for the deaf (TDD) may call the Federal Relay Service at 1-800-877-8339.

SUPPLEMENTARY INFORMATION:

Background

Under the authority of the Endangered Species Act of 1973, as amended (Act; 16 U.S.C. 1531 et seq.), the List of Endangered and Threatened Wildlife (List) in title 50 of the Code of Federal Regulations (50 CFR 17.11(h)) currently includes the gray wolf (Canis lupus). On March 15, 2019, the Service proposed to remove gray wolves in the lower 48 United States and Mexico from the List and opened a 60-day public comment period on the proposed action (84 FR 9648). On May 14, 2019, we extended the public comment period 60 days, to July 15, 2019 (84 FR 21312). The Service now announces a public open house and hearing as specified above in DATES.

Public Information Open House and Public Hearing

We are holding a public information open house followed by a public hearing on the date listed in DATES at the location listed in ADDRESSES. We are holding the public hearing to provide interested parties an opportunity to present verbal testimony (formal, oral comments) or hand-deliver their written comments regarding the March 15, 2019 (84 FR 9648), proposal to remove the gray wolf from the List. The public information open house will provide an opportunity for dialogue with the Service. The public hearing portion is a forum for accepting formal verbal testimony and does not provide an opportunity for such dialogue with the Service. In the event there is a large attendance, the time allotted for oral statements may be limited. Therefore, anyone wishing to make an oral statement at the public hearing for the record is encouraged to provide a prepared written copy of their statement to us at the hearing. Speakers can sign up at the hearing if they desire to make an oral statement. Oral and written statements receive equal consideration. There are no limits on the length of written comments submitted to us.

Persons with disabilities needing reasonable accommodations to participate in the public hearing should contact the Headquarters Office (see FOR FURTHER INFORMATION CONTACT). Reasonable accommodation requests should be requested as soon as possible to help ensure availability.

Peer Review

In accordance with our joint policy on peer review published in the Federal Register on July 1, 1994 (59 FR 34270), the Service submitted the March 15, 2019, proposal for independent expert peer review. The purpose of seeking independent peer review is to ensure use of the best scientific and commercial information available and to ensure and maximize the quality, objectivity, utility, and integrity of the information upon which the proposal is based, as well as to ensure that reviews by qualified experts are incorporated into the rulemaking process. For information on accessing the final peer review report and the peer review plan, see ADDRESSES.

Authors

The primary authors of this notice are the Ecological Services staff of the Headquarters Office, U.S. Fish and Wildlife Service.

Authority

The authority for this action is the Endangered Species Act of 1973, as amended (16 U.S.C. 1531 et seq.).

Dated: May 31, 2019
Margaret E. Everson,
Principal Deputy Director, Exercising the Authority of the Director for the U.S. Fish and Wildlife Service.

[FR Doc. 2019-11908 Filed 6-5-19; 8:45 am]

BILLING CODE 4333-15-P